INTERNATIONAL TRADE COMMISSION

[USITC SE-02-029]

Sunshine Act Meeting

Agency Holding the Meeting: International Trade Commission.

Time and Date: October 16, 2002 at 11 a.m.

Place: Room 101, 500 E Street SW., Washington, DC 20436. Telephone: (202) 205-2000.

Status: Open to the public.

Matters to be Considered: 1. Agenda for future meetings: none.

2. Minutes

3. Ratification List

4. Inv. Nos. 701-TA-423-425 and 731-TA-964, 966-970, 973-978, 980, and 982-983 (Final)(Certain Cold-Rolled Steel Products from Argentina, Belgium, Brazil, China, France, Germany, Korea, the Netherlands, New Zealand, Russia, South Africa, Spain, Taiwan, Turkey, and Venezuela)—briefing and vote. (The Commission is currently scheduled to transmit its determination and Commissioners' opinions to the Secretary of Commerce on or before October 28, 2002.)

5. Outstanding action jackets: none.

In accordance with Commission policy, subject matter listed above, not disposed of at the scheduled meeting, may be carried over to the agenda of the following meeting.

Issued: October 8, 2002.
By order of the Commission:
Marilyn R. Abbott,
Secretary to the Commission.

[FR Doc. 02-26072 Filed 10-9-02; 10:52 am]

BILLING CODE 7020-02-P